DEPARTMENT OF ENERGY

Federal Energy Regulatory Commission

Combined Notice of Filings #1

Take notice that the Commission received the following exempt wholesale generator filings:

Docket Numbers: EG22-38-000.

Applicants: BT Noble Solar, LLC.

Description: Notice of Self-Certification of Exempt Wholesale Generator Status of BT Noble Solar, LLC.

Filed Date: 1/13/22.

Accession Number: 20220113-5097.

Comment Date: 5 p.m. ET 2/3/22.

Docket Numbers: EG22-39-000.

Applicants: High Lonesome Storage, LLC.

Description: Notice of Self-Certification of Exempt Wholesale Generator Status of High Lonesome Storage, LLC.

Filed Date: 1/13/22.

Accession Number: 20220113-5132.

Comment Date: 5 p.m. ET 2/3/22.

Docket Numbers: EG22-40-000.

Applicants: Roadrunner Storage, LLC.

Description: Self-Certification of EG or FC of Roadrunner Storage, LLC.

Filed Date: 1/13/22.

Accession Number: 20220113-5148.

Comment Date: 5 p.m. ET 2/3/22.

Take notice that the Commission received the following electric rate filings:

Docket Numbers: ER08-1136-006.

Applicants: Georgia-Pacific LLC Crosset.

Description: Notice of Change in Status of Georgia-Pacific LLC Crosset.

Filed Date: 1/12/22.

Accession Number: 20220112-5009.

Comment Date: 5 p.m. ET 2/2/22.

Docket Numbers: ER22-814-000.

Applicants: PJM Interconnection, L.L.C.

Description: § 205(d) Rate Filing: Original WMPA SA No. 6317; Queue No. AG1-499 to be effective 12/15/2021.

Filed Date: 1/13/22.

Accession Number: 20220113-5046.

Comment Date: 5 p.m. ET 2/3/22.

Docket Numbers: ER22-815-000.

Applicants: Singer Energy Group, LLC.

Description: Tariff Amendment: Cancellation of Complete Tariff to be effective 1/14/2022.

Filed Date: 1/13/22.

Accession Number: 20220113-5090.

Comment Date: 5 p.m. ET 2/3/22.

Docket Numbers: ER22-816-000.

Applicants: Pacific Gas and Electric Company.

Description: Notice of Cancellation of Service Agreement No. 9 with Delta Energy Center, LLC of Pacific Gas and Electric Company.

Filed Date: 1/12/22.

Accession Number: 20220112-5148.

Comment Date: 5 p.m. ET 2/2/22.

Docket Numbers: ER22-817-000.

Applicants: The Narragansett Electric Company.

Description: § 205(d) Rate Filing: Reimbursement Agreement with Block Island Utility Dist. & Notice Waiver Request to be effective 11/29/2021.

Filed Date: 1/13/22.

Accession Number: 20220113-5105.

Comment Date: 5 p.m. ET 2/3/22.

Docket Numbers: ER22-818-000.

Applicants: AEP Texas Inc.

Description: § 205(d) Rate Filing: AEPTX-Concho Valley EC-Golden Spread EC 4th A&R IA to be effective 1/5/2022.

Filed Date: 1/13/22.

Accession Number: 20220113-5109.

Comment Date: 5 p.m. ET 2/3/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 13, 2022.
Debbie-Anne A. Reese,
Deputy Secretary.

[FR Doc. 2022-01032 Filed 1-19-22; 8:45 am]

BILLING CODE 6717-01-P